DEPARTMENT OF TRANSPORTATION

Federal Aviation Administration

14 CFR Part 39

[Docket No. FAA-2025-5386; Project Identifier MCAI-2025-01227-A]

RIN 2120-AA64

Airworthiness Directives; Extra Aerobatic Aircraft GmbH Airplanes

AGENCY: Federal Aviation Administration (FAA), DOT.

ACTION: Notice of proposed rulemaking (NPRM).

SUMMARY: The FAA proposes to adopt a new airworthiness directive (AD) for all Extra Aerobatic Aircraft GmbH (Extra) Model EXTRA NG airplanes. This proposed AD was prompted by reports of the canopy opening or detaching in flight because of a partially or improperly locked canopy. This proposed AD would require replacing the canopy placards and revising the Limitations Section of the Pilot Operating Handbook/Airplane Flight Manual (POH/AFM). The FAA is proposing this AD to address the unsafe condition on these products.

DATES: The FAA must receive comments on this NPRM by January 26, 2026.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-5386; or in person at Docket Operations between 9 a.m. and 5 p.m., Monday through Friday, except Federal holidays. The AD docket contains this NPRM, the mandatory continuing airworthiness information (MCAI), any comments received, and other information. The street address for Docket Operations is listed above.

Material Incorporated by Reference:

• For Extra Aerobatic Aircraft GmbH material identified in this proposed AD, contact Extra Aerobatic Aircraft GmbH, Schwarze Heide 21, 46569 Hünxe, Germany; phone: +49 2858 9137 0; email: engineering@ExtraAircraft.com.

• You may view this material at the FAA, Airworthiness Products Section, Operational Safety Branch, 901 Locust, Kansas City, MO 64106. For information on the availability of this material at the FAA, call (817) 222-5110.

FOR FURTHER INFORMATION CONTACT: Doug Rudolph, Aviation Safety Engineer, FAA, 1600 Stewart Avenue, Suite 410, Westbury, NY 11590; phone: (816) 329-4059; email: doug.rudolph@faa.gov.

SUPPLEMENTARY INFORMATION:

Comments Invited

The FAA invites you to send any written relevant data, views, or arguments about this proposal. Send your comments using a method listed under ADDRESSES. Include “Docket No. FAA-2025-5386; Project Identifier MCAI-2025-01227-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Doug Rudolph, Aviation Safety Engineer, FAA, 1600 Stewart Avenue, Suite 410, Westbury, NY 11590. Any commentary that the FAA receives which is not specifically designated as CBI will be placed in the public docket for this rulemaking.

Background

The European Union Aviation Safety Agency (EASA), which is the Technical Agent for the Member States of the European Union, has issued EASA AD 2025-0156, dated July 21, 2025 (EASA AD 2025-0156) (also referred to as the MCAI), to correct an unsafe condition on Extra Aerobatic Aircraft GmbH Model EXTRA NG airplanes, all serial numbers. The MCAI states that there are reports of canopies opening or detaching during flight. Further investigation determined that, in most cases, the root cause was a partially or improperly locked canopy. This condition, if not detected and corrected, could result in canopy separation, possibly leading to damage to the airplane structure, loss of control of the airplane, or injuries to people on the ground.

To address the unsafe condition, the MCAI requires replacing the canopy placards and revising the Limitations Section by adding reference to new canopy placards in the POH/AFM. This can be accomplished by incorporating Revision 16 or later of the Extra Aerobatic Aircraft GmbH POH/AFM.

You may examine the MCAI in the AD docket at regulations.gov under Docket No. FAA-2025-5386.

Material Incorporated by Reference Under 1 CFR Part 51

The FAA reviewed EXTRA Aerobatic Aircraft GmbH Service Bulletin No. SB-NG-1-24, Issue A, dated December 19, 2024. This material specifies procedures for revising the Limitations Section of the POH/AFM to include the newly mandated placard. Compliance shall be accomplished by incorporating Revision 16 or later approved revisions of the POH/AFM. This material is reasonably available because the interested parties have access to it through their normal course of business or by the means identified in the ADDRESSES section.

FAA's Determination

These products have been approved by the civil aviation authority of another country and are approved for operation in the United States. Pursuant to the FAA's bilateral agreement with this State of Design Authority, that authority has notified the FAA of the unsafe condition described in the MCAI and material referenced above. The FAA is issuing this NPRM after determining that the unsafe condition described previously is likely to exist or develop on other products of the same type design.

Proposed AD Requirements in This NPRM

This proposed AD would require accomplishing the actions specified in the material already described. This proposed AD also requires revising the Limitations Section of the existing POH/AFM.

The owner/operator (pilot) holding at least a private pilot certificate may revise the existing POH/AFM, as applicable, for your airplane and must enter compliance with the applicable paragraph of this proposed AD into the airplane maintenance records in accordance with 14 CFR 43.9(a) and 91.417(a)(2)(v).

Costs of Compliance

The FAA estimates that this AD, if adopted as proposed, would affect 30 airplanes of U.S. registry.

The FAA estimates the following costs to comply with this proposed AD:

Estimated Costs
Action | Labor cost | Parts cost | Cost per product | Cost on U.S. operators
Replace canopy placards | 1 work-hour × $85 per hour = $85 | $10 | $95 | $2,850
Revise POH/AFM | 1 work-hour × $85 per hour = $85 | 0 | 85 | 2,550

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Extra Aerobatic Aircraft GmbH: Docket No. FAA-2025-5386; Project Identifier MCAI-2025-01227-A.

(a) Comments Due Date

The FAA must receive comments on this airworthiness directive (AD) by January 26, 2026.

(b) Affected ADs

None.

(c) Applicability

This AD applies to Extra Aerobatic Aircraft GmbH Model EXTRA NG airplanes, certificated in any category.

(d) Subject

Joint Aircraft System Component (JASC) Code 1100, Placards and Markings

(e) Unsafe Condition

This AD was prompted by reports of the canopy opening or detaching in flight because of a partially or improperly locked canopy. The FAA is issuing this AD to detect and address placards/design that did not provide adequate positive canopy locking or confirmation. The unsafe condition, if not addressed, could result in canopy separation, possibly leading to damage to the airplane structure, loss of control of the airplane, or injuries to people on the ground.

(f) Compliance

Comply with this AD within the compliance times specified, unless already done.

(g) Required Actions

(1) For airplanes without canopy placard part number (P/N) EX-01106.01-Canopy installed, within 3 months or 25 hours time-in-service, whichever occurs first after the effective date of this AD, replace the affected canopy placards at the front and rear canopy handles in accordance with the INSTRUCTIONS, steps 1 and 2, in EXTRA Aerobatic Aircraft GmbH Service Bulletin No. SB-NG-1-24, Issue A, dated December 19, 2024 (EXTRA SB-NG-1-24).

(2) Before next flight, after the replacement of the affected canopy placards required by paragraph (g)(1) of this AD, revise the Limitations Section of the existing pilot's operating handbook/airplane flight manual (POH/AFM) to include canopy placard P/N EX-01106.01-Canopy in accordance with the INSTRUCTIONS, step 3, in EXTRA SB-NG-1-24. The owner/operator (pilot) holding at least a private pilot certificate may revise the existing POH/AFM for your airplane and must enter compliance with the applicable paragraph of this AD into the airplane maintenance records in accordance with 14 CFR 43.9(a) and 91.417(a)(2)(v).

(3) Amending the existing POH/AFM by incorporating a later POH/AFM revision that includes information identical to that required by paragraph (g)(2) is an acceptable method to comply with the requirements of paragraph (g)(2) of this AD.

(h) Installation Prohibition

As of the effective date of this AD, do not replace any canopy placard with a placard that is not P/N EX-01106.01-Canopy.

(i) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j) of this AD and email to: AMOC@faa.gov. Before using any approved AMOC, notify your appropriate principal inspector, or lacking a principal inspector, the manager of the local flight standards district office/certificate holding district office.

(j) Additional Information

For more information about this AD, contact Doug Rudolph, Aviation Safety Engineer, FAA, 1600 Stewart Avenue, Suite 410, Westbury, NY 11590; phone: (816) 329-4059; email: doug.rudolph@faa.gov.

(k) Material Incorporated by Reference

(1) The Director of the Federal Register approved the incorporation by reference (IBR) of the material listed in this paragraph under 5 U.S.C. 552(a) and 1 CFR part 51.

(2) You must use this material as applicable to do the actions required by this AD, unless the AD specifies otherwise.

(i) EXTRA Aerobatic Aircraft GmbH Service Bulletin No. SB-NG-1-24, Issue A, dated December 19, 2024.

(ii) [Reserved]

(3) For Extra Aerobatic Aircraft GmbH material identified in this AD, contact Extra Aerobatic Aircraft GmbH, Schwarze Heide 21, 46569 Hünxe, Germany; phone: +49 2858 9137 0; email: engineering@ExtraAircraft.com.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on December 5, 2025.
Steven W. Thompson,
Acting Deputy Director, Compliance & Airworthiness Division, Aircraft Certification Service.

[FR Doc. 2025-22445 Filed 12-9-25; 8:45 am]

BILLING CODE 4910-13-P